DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Assessment of the Emergency Severity Index (ESI).” In accordance with the Paperwork Reduction Act of 1995, Public Law 104-13 (44 U.S.C. 3506(c)(2)(A)), AHRQ invites the public to comment on this proposed information collection.

This proposed information collection was previously published in the Federal Register on January 22nd, 2008 and allowed 60 days for public comment. No comments were received. The purpose of this notice is to allow an additional 30 days for public comment.

DATES: Comments on this notice must be received by May 5, 2008.

ADDRESSES: Written comments should be submitted to: AHRQ's OMB Desk Officer by fax at (202) 395-6974 (attention: AHRQ's desk officer) or by e-mail at OIRA_submission@omb.eop.gov (attention: AHRQ's desk officer). Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

“Proposed Project—Assessment of the Emergency Severity Index (ESI)”

AHRQ is proposing to examine uptake and use of an emergency room triage tool, the Emergency Severity Index (ESI). The hospital emergency department (ED) represents a critical point in care delivery for patients across the United States. Over the past decade, however, the dramatic influx of patients into EDs has seriously challenged the ability of these departments to deliver timely, quality, and safe emergency healthcare services. Moreover, with most emergency departments operating at or over capacity it may prove difficult for them to respond to the surge in emergency room demand created by natural and man-made disasters. Development of increasingly refined and validated triage methods is one potential key to addressing overcrowding by speeding up the care delivery to the most acute ED patients while helping hospitals assess, carefully allocate and plan the amount of human and other resources needed to care for all patients.

In response to a need to standardize the triage process and improve the flow of patients, Richard C. Wuerz, MD, (Department of Emergency Medicine at the Brigham and Women's Hospital and the Harvard Medical School) and David R. Eitel, MD, (Department of Emergency Medicine, The York Hospital WellSpan Health System) initiated development of the Emergency Severity Index (ESI) in 1995. The ESI is unique in its focus on appropriate resource allocation and its consideration of necessary resource utilization in assigning acuity. To encourage adoption of the ESI, AHRQ developed an implementation handbook (Emergency Severity Index, Version 4) and companion DVDs. These materials are intended to provide hospitals and triage nurses with background on why they might want to implement the ESI as a triage tool, and offers recommendations on the implementation process and staff training.

This project will assess the product's acceptance by emergency departments and others involved in addressing medical surges to better understand the usefulness of the ESI compared to other similar tools. It will focus on the satisfaction with the product's presentation, content, and clarity; extent to which the product has improved emergency services and surge preparation; and the improvements users would like to see in the next version of this product. This will be accomplished through (1) developing and implementing an electronic and paper-based survey targeting emergency department professionals assessing the satisfaction with the ESI's content, clarity and actual use of the system in everyday emergency departments, and (2) convening focus groups of ED professionals to identify characteristics that might predict uptake and use of this system in participating emergency departments.

Method of Collection

Survey: An equal-probability sample of 507 ED professionals from the database AHRQ maintains of individuals and organizations that requested a copy of the ESI tools will be contacted to participate in the survey. Where a phone number has been provided, we will do a reverse telephone number search to identify the mailing address of the requester and conduct a mail survey with telephone follow-up. For those who have provided an e-mail address, we will send a link to a Web survey. Telephone and e-mail prompts will be sent after two weeks to those who have not yet completed the questionnaire, followed by two additional reminders sent three weeks apart. The expected response rate of 80 percent will result in 405 respondents to the survey with approximately 70% ED nurses, 20% ED medical and health services managers, and 10% ED physicians.

Focus Groups: Focus groups will be conducted to gauge ED managers' and clinicians' awareness of the ESI tool as well as AHRQ's role in ED surge planning and preparation. To the extent that we are able to identify a subgroup of ED representatives who are aware of the ESI tool but have chosen not to utilize it in their emergency departments, focus groups may also be useful to gather information on why these organizations opted not to employ the ESI. In order to facilitate communication among focus group participants and ensure that responses address the key issues identified in the focus group guide, we will limit participation in each focus group meeting to between six and eight individuals. A total of four focus group meetings will be held, including two meetings each with ED medical directors, ED triage nurses, and ED medical and health services managers.

Estimated Annual Respondent Burden

Exhibit 1.—Estimated Annualized Burden Hours
Data collection effort | Number of respondents | Number of responses per respondent | Hours per response | Total burden hours
ED professionals survey | 405 | 1 | 20/60 | 135
ED professionals focus groups | 32 | 1 | 1.5 | 48
Total | 437 | na | na | 183

Exhibit 2.—Estimated Annualized Cost Burden
Data collection effort | Number of respondents | Total burden hours | Average hourly wage rate* | Total cost burden
ED professionals survey | 405 | 135 | $33.70 | $4,549.50
ED professionals focus groups | 32 | 48 | 36.62 | 1,757.76
Total | 437 | 183 | na | 6,307.26
*Total cost burden for the survey is based upon the weighted average of 13 physicians at $58.76/hr, 95 nurses at $29.10/hr, and 27 medical and health services managers at $37.82/hr. Total cost burden for the focus groups is based on the weighted average of 6 ED physicians at $58.76/hr, 21 nurses at $29.10/hr, and 21 medical and health services managers at $37.82/hr. National Compensation Survey: Occupational wages in the United States 2006, “U.S. Department of Labor, Bureau of Labor Statistics.”

This information collection will not impose a cost burden on respondents beyond that associated with their time to provide the required data. There will be no additional costs for capital equipment, software, computer services, etc.

Estimated Annual Costs to the Federal Government

Developing and implementing the survey—$183,305.

Developing and conducting focus groups—$69,669.

Analyzing the data and report production—$26,172.

Associated personnel costs—$17,073.

The total cost to the government for this activity is estimated to be $296,219.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection.

All comments will become a matter of public record.

Dated: March 25, 2008.
Carolyn M. Clancy,
Director.

[FR Doc. E8-6757 Filed 4-2-08; 8:45 am]

BILLING CODE 4160-90-M